NATIONAL SCIENCE FOUNDATION

Proposal Review for Physics; Notice of Meeting

In accordance with the Federal Advisory Committee Act (Pub. L. 92-463, as amended), the National Science Foundation announces the following meeting:

Name: Proposal Review for the Center for Magnetic Self-Organization in Laboratory and Astrophysical Plasmas (CMS0) Site Visit (1208).

Dates/Time: February 22, 2011, 8 a.m.-6 p.m.; February 23, 2011, 8:30 a.m.-5 p.m.

Place: University of Wisconsin, Madison.

Type of Meeting: Partially open.

Contact Person: Dr. C. Denise Caldwell, Deputy Division Director (MPS/PHY), Rm. 1015, National Science Foundation, 4201 Wilson Blvd., Arlington, VA 22230 (703) 292-7371.

Purpose of Meeting: To provide advice and recommendations concerning progress of the Center for Magnetic Self-Organization in Laboratory and Astrophysical Plasmas (CMS0).

Agenda:

Feb. 22, 2011 8 a.m.-2:45 p.m. Open Sessions

Refreshments & greetings (Pyle Center)

Introduction (Ellen Zweibel, Denise Caldwell)

Overview of CMSO (Ellen Zweibel)

Dynamos (Cary Forest/Fausto Cattaneo)

Momentum Transport (Hui Li/Mark Nornberg)

Reconnection (Amitava Bhattacharjee/Masaaki Yamada)

Lunch with students & postdocs at Pyle Center

Turbulence (Paul Terry, Leonid Malyshkin)

MSO Outreach Programs (Ella Braden)

Feb. 22, 2011 2:45 p.m.-4 p.m. Closed Executive Session

Feb. 22, 2011 2:45 p.m.-6 p.m. Open Sessions

Poster Session (Home of Plasma Dynamo Experiment, Sterling Hall)

Tour of experiments (Chamberlin Hall)

February 23, 2011 8:30 a.m.-5 p.m. Closed Executive Session

Reason for Late Notice: Due to administrative complications and the necessity to proceed with the review.

Reason for Closing: The work being reviewed may include information of a proprietary or confidential nature, including technical information; financial data such as salaries; and personal information concerning individuals associated with the center. These matters are exempt under (4) and (6) of 5 U.S.C. 552b(c), of the Government in the Sunshine Act.

Dated: February 9, 2011.
Suzanne H. Plimpton,
Reports Clearance Officer.

[FR Doc. 2011-3228 Filed 2-11-11; 8:45 am]

BILLING CODE 7555-01-P